DEPARTMENT OF AGRICULTURE

Forest Service

Eastern Washington Cascades Provincial Advisory Committee and the Yakima Provincial Advisory Committee

AGENCY: Forest Service, USDA.

ACTION: Notice of meeting.

SUMMARY: The Eastern Washington Cascades Provincial Advisory Committee and the Yakima Provincial Advisory Committee will meet on Wednesday, September 26, 2007 at the Okanogan and Wenatchee National Forests Headquarters office, 215 Melody Lane, Wenatchee, WA. This meeting will begin at 9:30 a.m. and continue until 3:30 p.m. During this meeting Provincial Advisory Committee members will share information on new developments relating to the Northwest Forest Plan, receive an update on the Travel Management Plan, the Recreation Site Facilities Master Plan, the Tripod Fire salvage process, and learn about a conservation community wilderness proposal. All Eastern Washington Cascades and Yakima Province Advisory Committee meetings are open to the public.

FOR FURTHER INFORMATION CONTACT: Direct questions regarding this meeting to Paul Hart, Designated Federal Official, USDA, Wenatchee National Forest, 215 Melody Lane, Wenatchee, Washington 98801, 509-664-9200.

Dated: September 5, 2007.
Paul Hart,
Designated Federal Official, Okanogan and Wenatchee National Forests.

[FR Doc. 07-4414 Filed 9-7-07; 8:45 am]

BILLING CODE 3410-11-M